DEPARTMENT OF HOMELAND SECURITY

Federal Emergency Management Agency

[Docket ID: FEMA-2013-0038; OMB No. 1660-0030]

Agency Information Collection Activities: Proposed Collection; Comment Request; Request for the Site Inspection, Landowners Authorization/Ingress/Egress Agreement

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the collection of information related to FEMA's temporary housing assistance, which provides temporary housing to eligible survivors of federally declared disasters. This information is required to: (a) Determine whether the infrastructure of the site supports the installation of the temporary housing unit; (b) obtain permission to place the temporary housing unit on the property; and (c) allow ingress and egress to the property housing the temporary unit.

DATES: Comments must be submitted on or before October 18, 2013.

ADDRESSES: To avoid duplicate submissions to the docket, please use only one of the following means to submit comments:

(1) Online. Submit comments at www.regulations.gov under Docket ID FEMA-2013-0038. Follow the instructions for submitting comments.

(2) Mail. Submit written comments to Docket Manager, Office of Chief Counsel, DHS/FEMA, 500 C Street SW., Room 840, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Joel Pirrone, Senior Program Analyst, FEMA, Office of Response & Recovery, 202-212-1253. You may contact the Records Management Division for copies of the proposed collection of information at facsimile number (202) 646-3347 or email address: FEMA-Information-Collections-Management@dhs.gov.

SUPPLEMENTARY INFORMATION: The Robert T. Stafford Disaster Relief and Emergency Assistance Act (42 U.S.C. 5174) authorizes the President to provided mobile homes and other readily fabricated dwellings to eligible applicants who require temporary housing as a result of a major disaster. Title 44 CFR 206.117 provides the requirements for disaster-related housing needs of individuals and households who are eligible for temporary housing assistance. The information collected provides the facts necessary to determine the feasibility of the proposed site for placement of temporary housing and so that FEMA can have access to place the temporary housing unit as well as retrieve it at the end of the use.

Collection of Information

Title: Request for the Site Inspection, Landowners Authorization/Ingress/Egress Agreement.

Type of Information Collection: Extension, without change, of a currently approved information collection.

OMB Number: 1660-0030.

FEMA Forms: FEMA Form 010-0-09, Request for the Site Inspection; FEMA Form 010-0-10, Landowner's Authorization Ingress-Egress Agreement.

Abstract: FEMA's temporary housing assistance provides temporary housing to eligible survivors of federally declared disasters. This information is required to determine whether the infrastructure of the site supports the installation of the unit. This collection also obtains permission to place the unit on the property. The property owner certifies that they will not have a lien placed against the unit for their own debts, thus ensuring they will maintain the property so that FEMA can remove the unit when required.

Affected Public: Individuals or households.

Number of Respondents: 5,000.

Number of Responses: 10,000.

Estimated Total Annual Burden Hours: 1,700 hours.

Estimated Annualized Burden Hours and Costs
Type of respondent | Form name/form No. | Number of respondents | Number of responses per respondent | Total number of responses | Avg. burden per response (in hours) | Total annual burden (in hours) | Avg. hourly wage rate | Total annual respondent cost
Individuals or households | FEMA Form 010-0-9/Request for the Site Inspection | 5,000 | 1 | 5,000 | 0.17 | 850 | $28.00 | $23,800
Individuals or households | FEMA Form 010-0-10/Landowner's Authorization Ingress-Egress Agreement | 5,000 | 1 | 5,000 | 0.17 | 850 | 28.00 | 23,800 | Total |  | 5,000 |  | 10,000 |  | 1,700 |  | 47,600
• Note: The “Avg. Hourly Wage Rate” for each respondent includes a 1.4 multiplier to reflect a fully-loaded wage rate.

Estimated Cost: The estimated annual cost to respondents for the hour burden is $47,600.00. There are no annual costs to respondents operations and maintenance costs for technical services. There is no annual start-up or capital costs. The cost to the Federal Government is $3,229,500.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: August 9, 2013.
Charlene D. Myrthil,
Director, Records Management Division, Mission Support Bureau, Federal Emergency Management Agency, Department of Homeland Security.

[FR Doc. 2013-20078 Filed 8-16-13; 8:45 am]

BILLING CODE 9111-23-P